AGENCY FOR INTERNATIONAL DEVELOPMENT

Senior Executive Service: Membership of Performance Review Board

AGENCY: Agency for International Development (USAID).

ACTION: Notice of approved list of candidates.

SUMMARY: This notice provides a list of approved candidates who comprise a standing roster for service on the Agency's 2024 Senior Executive Service (SES) Performance Review Board. The Agency will use this roster to select SES Performance Review Board members.

DATES: October 30, 2024.

ADDRESSES: executiveresources@usaid.gov.

FOR FURTHER INFORMATION CONTACT: Lena Travers, Director, Center for Performance Excellence, Office of Human Capital and Talent Management, USAID, at 202-712-5636 or ltravers@usaid.gov.

SUPPLEMENTARY INFORMATION: Under the Civil Service Reform Act of 1978, Public Law 95-454 (5 U.S.C. 4314(c)(4)) and 5 CFR 430.311(a)(4), the Agency must publish in the Federal Register a list of persons named to serve on the Performance Review Board that oversees the evaluation of performance appraisals for SES members of the Agency. The standing roster of approved candidates from which the Agency will select SES Performance Review Board members is as follows:

Bader, Harry

Ball, Kimberly

Beers, Mia

Bertram, Robert

Borodin, Sara

Broderick, Deborah

Brown, Erin

Buckley, Ruth

Chalif, Rebecca

Davis, Thomas

Detherage, Maria Price

Donohue, Katherine

Ehmann, Claire

ElGohary, Laila

Feinstein, Barbara

Girod, Gayle

Gray, Jason

Healy, Anne

Jin, Jun

Johnson, Mark

Kenon, Clifton

Knudsen, Ciara

Korde, Sonali

Lucas, Rachel

McGill, Brian

McLaughlin, Mary

Metzler, Michael

Mitchell, Reginald

Napoli, Roman

Ohlweiler, John

Pryor, Jeanne

Ram, Pavani

Rodgers, Jami

Schulz, Laura

Shih, Stephen

Singh, Sukhvinder

Sokolowski, Alexander

Voorhees, John

Wallace, Julia

Walton, David

Webb, Patrick

Willis, Lindsey

Winston, Lynn

Wright, Sheila

Lena Travers,
Director, Center for Performance Excellence.

[FR Doc. 2024-25216 Filed 10-29-24; 8:45 am]

BILLING CODE 6116-04-P